DEPARTMENT OF AGRICULTURE

Forest Service

Revised Land and Resource Management Plan for the Finger Lakes National Forest (Seneca and Schuyler Counties, NY)

AGENCY: Forest Service, USDA.

ACTION: Notice of Intent supplement.

SUMMARY: On May 2, 2002 the USDA Forest Service published in the Federal Register, a Notice of Intent (NOI) to prepare an Environmental Impact Statement and to revise the Finger Lakes National Forest Land and Resource Management Plan (Forest Plan). A supplement to the NOI was published on June 19, 2002 extending the comment period from 60 to 90 days. A document titled, “Implementing the Finger Lakes Land and Resource Management Plan—A Fifteen Year Retrospective” (Retrospective) was referenced in the NOI and was not available at the beginning of the 60-day public comment period. Printing the Retrospective has taken longer than expected. To ensure that those who want to reference the Retrospective when commenting on the NOI may do so, the comment period on the NOI is being extended until August 31, 2002.

Supplement: The Finger Lakes National Forest is extending the comment period for the NOI until August 31, 2001. Written comments on the NOI will now be accepted until that time. All other information in the May 2, 2002 NOI remains the same.

Dated: June 28, 2002.
Tamara S. Malone,
Deputy Forest Supervisor.

[FR Doc. 02-16920 Filed 7-5-02; 8:45 am]

BILLING CODE 3410-11-M